ENVIRONMENTAL PROTECTION AGENCY

[EPA-HQ-RCRA-2015-0108, FRL-9924-25-OSWER]

Agency Information Collection Activities; Proposed Collection; Comment Request; RCRA Expanded Public Participation.

AGENCY: Environmental Protection Agency (EPA).

ACTION: Notice.

SUMMARY: The Environmental Protection Agency (EPA) is planning to submit an information collection request (ICR), RCRA Expanded Public Participation (EPA ICR No. 1688.08, OMB Control No. 2050-0149) to the Office of Management and Budget (OMB) for review and approval in accordance with the Paperwork Reduction Act (PRA) (44 U.S.C. 3501 et seq.). Before doing so, the EPA is soliciting public comments on specific aspects of the proposed information collection as described below. This is a proposed extension of the ICR, which is currently approved through June 30, 2015. An Agency may not conduct or sponsor and a person is not required to respond to a collection of information unless it displays a currently valid OMB control number.

DATES: Comments must be submitted on or before May 12, 2015.

ADDRESSES: Submit your comments, referencing by Docket ID No. EPA-HQ-RCRA-2015-0108, online using www.regulations.gov (our preferred method), by email to rcra-docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Michael Pease, (5303P), Environmental Protection Agency, 1200 Pennsylvania Ave. NW., Washington, DC 20460; telephone number: 703-308-0008; fax number: 703-308-8433; email address: pease.michael@epa.gov.

SUPPLEMENTARY INFORMATION: Supporting documents which explain in detail the information the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: Section 7004(b) of RCRA gives the EPA broad authority to provide for, encourage, and assist public participation in the development, revision, implementation, and enforcement of any regulation, guideline, information, or program under RCRA. An example of this is at 40 CFR 124.31(a) and (b), facilities applying for an initial part B permit or a part B permit renewal, where the renewal application is proposing a change that would qualify as a Class 3 permit modification under 40 CFR 270.42, are required to hold at least one meeting with the public prior to submitting the part B permit application to the permitting agency. The applicant must submit a summary of the meeting, along with the list of attendees and their addresses, and copies of any written comments or materials submitted at the meeting, to the permitting agency as part of the part B application (§ 124.31(c)). Under 40 CFR 124.31(d), applicants must provide public notice (i.e., newspaper advertisement, visible and accessible sign, and broadcast media announcement) of the pre-application meeting at least 30 days prior to the meeting. The applicant also mush provide a copy of the notice to the permitting agency and to the appropriate units of State and local government.

In addition, the statute specifies certain public notices (i.e., radio, newspaper, and a letter to relevant agencies) that the EPA must provide before issuing any RCRA permit. The statute also establishes a process by which the public can dispute a permit and request a public hearing to discuss it. The EPA carries out much of its RCRA public involvement at 40 CFR parts 124 and 270.

Form Numbers: None.

Respondents/affected entities: Entities potentially affected by this action are Businesses and other for-profit.

Respondent's obligation to respond: mandatory (RCRA 7004(b)).

Estimated number of respondents: 33.

Frequency of response: On occasion.

Total estimated burden: 3,005 hours. Burden is defined at 5 CFR 1320.03(b).

Total estimated cost: $195,914, which includes $192,365 annualized labor costs and $3,549 annualized capital or O&M costs.

Changes in Estimates: The burden hours are likely to stay substantially the same.

Dated: March 2, 2015.
Barnes Johnson,
Director, Office of Resource Conservation and Recovery.

[FR Doc. 2015-05842 Filed 3-12-15; 8:45 am]

BILLING CODE 6560-50-P